DEPARTMENT OF HEALTH AND HUMAN SERVICES

Food and Drug Administration

[Docket No. FDA-2019-N-0430]

Agency Information Collection Activities; Submission for Office of Management and Budget Review; Comment Request; Generic Clearance for Quick Turnaround Testing of Communication Effectiveness

AGENCY: Food and Drug Administration, HHS.

ACTION: Notice.

SUMMARY: The Food and Drug Administration (FDA) is announcing that a proposed collection of information has been submitted to the Office of Management and Budget (OMB) for review and clearance under the Paperwork Reduction Act of 1995.

DATES: Submit written comments (including recommendations) on the collection of information by September 23, 2022.

ADDRESSES: To ensure that comments on the information collection are received, OMB recommends that written comments be submitted to https://www.reginfo.gov/public/do/PRAMain. Find this particular information collection by selecting “Currently under Review—Open for Public Comments” or by using the search function. The OMB control number for this information collection is 0910-0876. Also include the FDA docket number found in brackets in the heading of this document.

FOR FURTHER INFORMATION CONTACT: Amber Sanford, Office of Operations, Food and Drug Administration, Three White Flint North, 10A-12M, 11601 Landsdown St., North Bethesda, MD 20852, 301-796-8867, PRAStaff@fda.hhs.gov.

SUPPLEMENTARY INFORMATION: In compliance with 44 U.S.C. 3507, FDA has submitted the following proposed collection of information to OMB for review and clearance.

Generic Clearance for Quick Turnaround Testing of Communication Effectiveness

OMB Control Number 0910-0876—Extension

The FDA Food Safety Modernization Act (FSMA) (Pub. L. 111-353) enables FDA to better protect public health by helping to ensure the safety and security of the food supply. It enables FDA to focus more on preventing food safety problems rather than relying primarily on reacting to problems after they occur. FSMA recognizes the important role consumers and stakeholders play in ensuring the safety of the food supply, which helps ensure that suppliers produce food that meets U.S. safety standards.

Occasionally, FDA will need to communicate with consumers and other stakeholders about immediate health issues that could affect public health and safety. This collection of information allows the use of fast-track methods of communication such as quick turnaround surveys, focus groups, and indepth interviews collected from consumers and other stakeholders to communicate FDA issues of immediate and important public health significance. We plan on using these methods of communication to collect vital public health and safety information.

For example, these methods of communication might be used when there is a foodborne illness outbreak, food recall, or other situation requiring expedited FDA food, dietary supplement, cosmetics, or animal food or feed communications. So that FDA may better protect the public health, the Agency needs quick turnaround information provided by this collection of information to help ensure its messaging has reached the target audience, has been effective, and, if needed, to update its communications during these events.

Respondents to this collection of information include a wide range of consumers and other FDA stakeholders such as producers and manufacturers of FDA-regulated food and cosmetic products, dietary supplements, and animal food and feed. Participation will be voluntary.

In the Federal Register of April 18, 2022 (87 FR 22906), FDA published a 60-day notice requesting public comment on the proposed collection of information. Although three comments were received, they were not responsive to the four collection of information topics solicited.

We estimate the burden of this collection of information as follows:

Table 1—Estimated Annual Reporting Burden ¹
Survey type | Number of respondents | Number of responses per respondent | Total annual responses | Average burden per response | Total hours
Indepth Interviews, Cognitive Interviews Screener | 45 | 1 | 45 | 0.083 (5 minutes) | 4
Indepth Interviews, Cognitive Interviews | 9 | 1 | 9 | 1 | 9
Indepth Interviews Screener | 900 | 1 | 900 | 0.083 (5 minutes) | 75
Indepth Interviews | 180 | 1 | 180 | 1 | 180
Survey Cognitive Interviews Screener | 45 | 1 | 45 | 0.083 (5 minutes) | 4
Survey Cognitive Interviews | 9 | 1 | 9 | 1 | 9
Pretest Survey Screener | 750 | 1 | 750 | 0.083 (5 minutes) | 62
Pretest Survey | 150 | 1 | 150 | 0.25 (15 minutes) | 38
Self-Administered Surveys—Study Screener | 75,000 | 1 | 75,000 | 0.083 (5 minutes) | 6,225
Self-Administered Surveys | 15,000 | 1 | 15,000 | 0.25 (15 minutes) | 3,750
Focus Group/Small Group, Cognitive Groups Screener | 180 | 1 | 180 | 0.083 (5 minutes) | 15
Focus Group/Small Group, Cognitive Groups | 60 | 1 | 60 | 1.5 (90 minutes) | 90
Focus Group/Small Group Participant Screening | 720 | 1 | 720 | 0.083 (5 minutes) | 60
Focus Group/Small Group Discussion | 240 | 1 | 240 | 1.5 (90 minutes) | 360
Total |  |  |  |  | 10,881
¹ There are no capital costs or operating and maintenance costs associated with this collection of information.

Based on a review of the information collection since our last request for OMB approval, we have made no adjustments to our burden estimate.

Dated: August 18, 2022.
Lauren K. Roth,
Associate Commissioner for Policy.

[FR Doc. 2022-18265 Filed 8-23-22; 8:45 am]

BILLING CODE 4164-01-P